DEPARTMENT OF TRANSPORTATION

Office of the Secretary

Aviation Proceedings, Agreements Filed the Week Ending June 25, 2004

The following Agreements were filed with the Department of Transportation under the provisions of 49 U.S.C. 412 and 414. Answers may be filed within 21 days after the filing of the application.

Docket Number: OST-2004-18476.

Date Filed: June 22, 2004.

Parties: Members of the International Air Transport Association.

Subject: PTC31 SOUTH 0161 dated 4 June 2004; TC31 South Pacific (except between French Polynesia, New Caledonia, New Zealand and USA) Resolutions r1-r28; PTC31 SOUTH 0162 dated 4 June 2004; TC31 South Pacific Between French Polynesia, New Caledonia, New Zealand and USA Resolutions r29-r44; Minutes—PTC 31 SOUTH 0163 dated 18 June 2004; Tables—PTC31 SOUTH Fares 0038 dated 4 June 2004; Intended effective date: 1 October 2004.

Docket Number: OST-2004-18503.

Date Filed: June 24, 2004.

Parties: Members of the International Air Transport Association.

Subject: PTC2 EUR 0568 dated 25 June 2004; Mail Vote 393—Resolution 010k; TC2 Within Europe Special Passenger Amending Resolution; Intended effective date: 5 July 2004.

Docket Number: OST-2004-18504.

Date Filed: June 24, 2004.

Parties: Members of the International Air Transport Association.

Subject: PTC2 EUR 0567 dated 25 June 2004; Mail Vote 394—Resolution 010L; TC2 Within Europe Special Passenger Amending Resolution from Malta to Europe; Intended effective date: 10 July 2004.

Maria Gulczewski,
Supervisory Dockets Officer, Alternate Federal Register Liaison.

[FR Doc. 04-15640 Filed 7-8-04; 8:45 am]

BILLING CODE 4910-62-P